DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to Office of Management and Budget under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The Nurse Faculty Loan Program (NFLP): Annual Operating Report (AOR) Form—NEW

Under Title VIII of the Public Health Service Act, as amended by Public Law 107-205, Section 846A, the Secretary of Health and Human Services (HHS) enters into an agreement with a school of nursing to establish and operate the NFLP fund. HHS makes an award to the school in the form of a Federal Capital Contribution (FCC). The award is used to establish a distinct account for the NFLP loan fund at the school or is deposited into an existing NFLP fund. The school of nursing makes loans from the NFLP fund to eligible students enrolled full-time in a master's or doctoral nursing education program that will prepare them to become qualified nursing faculty. Following graduation from the NFLP lending school, loan recipients may receive up to 85 percent NFLP loan cancellation over a consecutive four-year period in exchange for service as full-time faculty at a school of nursing. The NFLP lending school collects any portion of the loan that is not cancelled and any loan in repayment and deposits these monies into the NFLP loan fund to make additional NFLP loans. The school of nursing must keep records of all NFLP loan fund transactions.

The NFLP Annual Operating Report will be used to collect information relating to the NFLP loan fund operations and financial activities for a specified reporting period (July 1 through June 30 of the academic year). Participating schools will complete and submit the AOR annually to provide the Federal Government with current and cumulative information on: (1) The number and amount of loans made, (2) the number of NFLP recipients and graduates, (3) the number and amount of loans collected, (4) the number and amount of loans in repayment, (5) the number of NFLP graduates employed as nurse faculty, (6) NFLP loan fund receipts, disbursements and other related cost. The NFLP loan fund balance is used to determine future awards to the school.

The estimate of burden for this form is as follows:

Form | Number of respondents | Responses per respondent | Total responses | Hours per responses | Total burden hours
Nurse Faculty Loan Program Annual Operating Report (AOR) | 150 | 1 | 150 | 8 | 1200
Total Burden | 150 | 1 | 150 | 8 | 1200

Send comments to Susan G. Queen, Ph.D., HRSA Reports Clearance Officer, Room 10-33, Parklawn Building, 5600 Fishers Lane, Rockville, MD 20857. Written comments should be received within 60 days of this notice.

Dated: February 21, 2007.
Alexandra Huttinger,
Acting Director, Division of Policy Review and Coordination.

[FR Doc. E7-3406 Filed 2-26-07; 8:45 am]

BILLING CODE 4165-15-P